DEPARTMENT OF THE INTERIOR

National Park Service

[NPS-WASO-NPS-WASO-CR; PPWOCRADI0, PCU00RP14.R50000 (189); OMB Control Number 1024-0018]

Agency Information Collection Activities; Submission to the Office of Management and Budget for Review and Approval; Nomination of Properties for Listing in the National Register of Historic Places

AGENCY: National Park Service, Interior.

ACTION: Notice of information collection; request for comment.

SUMMARY: In accordance with the Paperwork Reduction Act of 1995, we, the National Park Service (NPS) are proposing to renew an information collection.

DATES: Interested persons are invited to submit comments on or before January 2, 2019.

ADDRESSES: Send written comments on this information collection request (ICR) to the Office of Management and Budget's Desk Officer for the Department of the Interior by email at OIRA_Submission@omb.eop.gov; or via facsimile to (202) 395-5806. Please provide a copy of your comments to Phadrea D. Ponds, Information Collection Clearance Officer, National Park Service, 1201 Oakridge Drive, Fort Collins, CO 80525; or by email to phadrea_ponds@nps.gov. Please reference OMB Control Number 1024-0018 in the subject line of your comments.

FOR FURTHER INFORMATION CONTACT: To request additional information about this ICR, contact Lisa Deline, Architectural Historian, National Register of Historic Places, by email at Lisa_Deline@nps.gov, or by telephone at 202-354-2239. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information on April 24, 2018 (83 FR 17841). No written comments were received in response to that notice.

We are again soliciting comments on the proposed information collection request (ICR) that is described below. We are especially interested in public comment addressing the following issues: (1) Is the collection necessary to the proper functions of the NPS, (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The National Register of Historic Places (National Register) is the official Federal list of districts, sites, buildings, structures, and objects significant in American history, architecture, archeology, engineering, and culture. National Register properties have significance to the history of communities, States, or the Nation. The National Historic Preservation Act of 1966 requires the Secretary of the Interior to maintain and expand the National Register, and to establish criteria and guidelines for including properties on the National Register. National Register properties must be considered in the planning for Federal or federally assisted projects, and listing in the National Register is required for eligibility for Federal rehabilitation tax incentives. The NPS administers the National Register. Nominations for listing historic properties come from State Historic Preservation Officers (SHPO), from Federal Preservation Officers (FPO), for properties owned or controlled by the United States Government, and from Tribal Historic Preservation Officers (THPO), for properties on tribal lands. Private individuals and organizations, local governments, and American Indian tribes often initiate this process and prepare the necessary documentation. Regulations at 36 CFR 60 and 63 establish the criteria and guidelines for listing and for determining the eligibility of properties.

Title of Collection: Nomination of Properties for Listing in the National Register of Historic Places, 36 CFR 60 and 63.

OMB Control Number: 1024-0018.

Form Numbers:

• NPS Form 10-900 (National Register of Historic Places Registration Form)

• NPS Form 10-900-a (National Register of Historic Places Continuation Sheet) and

• NPS Form 10-900-b (National Register of Historic Places Multiple Property Documentation Form).

Type of Review: Extension of a currently approved collection.

Respondents/Affected Public: Individuals, Private Sector, and Government.

Total Estimated Number of Annual Respondents: 2,564.

Total Estimated Number of Annual Responses: 8,443.

Estimated Completion Time per Response: Varies from 6 hours to 250 hours, depending on respondent and/or activity.

Total Estimated Number of Annual Burden Hours: 226,672.

Respondent's Obligation: Required to Obtain Benefits.

Frequency of Collection: On occasion.

Total Estimated Annual Nonhour Burden Cost: None.

Activity | Annual number of responses | Estimated time per response (hours) | Total annual burden hours
Preparation and Submission of Nomination Forms (individuals), NPS Forms 10-900, 10-900-a, 10-900-b | 90 | 250 | 22,500
Preparation and Submission of Nomination Forms (private sector), NPS Forms 10-900, 10-900-a, 10-900-b | 5 | 250 | 1,250
Preparation and Submission of Nomination Forms (govt), NPS Forms 10-900, 10-900-a, 10-900-b | 5 | 250 | 1,250
Review of Nomination Forms and Submission to NPS (govt) | 1,282 | 6 | 7,692
National Register Nominations Prepared by Consultants (individuals), NPS Forms 10-900, 10-900-a | 635 | 120 | 76,200
Existing Multiple Property Submission by Consultants, NPS Forms 10-900, 10-900-a | 75 | 100 | 7,500
Newly Proposed MPS Cover Document Prepared by Consultants, NPS Forms 10-900-a, 10-900-b | 36 | 280 | 10,080
New Nominations Prepared and Submitted by Consultants (individuals), NPS Forms 10-900, 10-900-a | 1 | 150 | 150
National Register District Nominations Prepared by Consultants (govt), NPS Forms 10-900-a, 10-900-b | 435 | 230 | 100,050
Total | 2,564 |  | 226,672

An agency may not conduct or sponsor and a person is not required to respond to a collection of information unless it displays a currently valid OMB control number.

The authority for this action is the Paperwork Reduction Act of 1995 (44 U.S.C. 3501 et seq.).

Phadrea D. Ponds,
Acting NPS Information Collection Clearance Officer, National Park Service.

[FR Doc. 2018-26141 Filed 11-30-18; 8:45 am]

BILLING CODE 4312-52-P